DEPARTMENT OF COMMERCE

International Trade Administration

[C-489-502, C-489-823, C-489-817, C-489-834]

Circular Welded Carbon Steel Standard Pipe and Tube Products From the Republic of Türkiye; Welded Line Pipe From the Republic of Türkiye; Certain Oil Tubular Goods From the Republic of Türkiye; and Large Diameter Welded Pipe From the Republic of Türkiye: Final Results of Countervailing Duty Changed Circumstances Reviews

AGENCY: Enforcement and Compliance, International Trade Administration, Department of Commerce.

SUMMARY: On September 10, 2024, the U.S. Department of Commerce (Commerce) published the preliminary results of the changed circumstances reviews (CCRs) of the countervailing duty orders on circular welded carbon steel standard pipe and tube products (standard pipe), welded line pipe (WLP), certain oil tubular goods (OCTG), and large diameter welded pipe (LDWP) from the Republic of Türkiye (Türkiye). For these final results, Commerce continues to find that Borusan Birleşik Boru Fabrikalari Sanayi ve Ticaret A.S. (Borusan Boru) is the successor-in-interest to Borusan Mannesmann Boru Sanayi ve Ticaret A.S. (BMB).

DATES: Applicable December 4, 2024.

FOR FURTHER INFORMATION CONTACT: Ajay K. Menon, AD/CVD Operations, Office IX, Enforcement and Compliance, International Trade Administration, U.S. Department of Commerce, 1401 Constitution Avenue NW, Washington, DC 20230; telephone: (202) 482-0208.

SUPPLEMENTARY INFORMATION:

Background

On September 10, 2024, Commerce published the Preliminary Results of these CCRs, determining that Borusan Boru is the successor-in-interest to BMB and provided interested parties with an opportunity to comment.¹ On October 10, 2024, Borusan Boru filed comments regarding the effective date of Commerce's successor-in-interest determinations.² For a summary of the events that occurred since the Preliminary Results, see the Issues and Decision Memorandum.³

¹ See Circular Welded Carbon Steel Standard Pipe and Tube Products from the Republic of Türkiye; Welded Line Pipe from the Republic of Türkiye; Certain Oil Tubular Goods from the Republic of Türkiye; and Large Diameter Welded Pipe from the Republic of Türkiye: Preliminary Results of Countervailing Duty Changed Circumstances Reviews, 89 FR 73361 (September 10, 2024).

² See Borusan Boru's Letter, “Case Brief,” dated October 10, 2024.

³ See Memorandum, “Issues and Decision Memorandum for the Final Results of the Countervailing Duty Changed Circumstances Reviews of Circular Welded Carbon Steel Standard Pipe and Tube Products from the Republic of Türkiye; Welded Line Pipe from the Republic of Türkiye; Certain Oil Tubular Goods from the Republic of Türkiye; and Large Diameter Welded Pipe from the Republic of Türkiye,” dated concurrently with, and hereby adopted by, this notice (Issues and Decision Memorandum).

Scope of the Orders ⁴

⁴ See Countervailing Duty Order: Certain Welded Carbon Steel Pipe and Tube Products from Turkey,51 FR 7984 (March 7, 1986) (Standard Pipe CVD Order); Welded Line Pipe from the Republic of Turkey: Countervailing Duty Order,80 FR 75054 (December 1, 2015) (Welded Line Pipe CVD Order); Certain Oil Country Tubular Goods from India and the Republic of Turkey: Countervailing Duty Orders and Amended Affirmative Final Countervailing Duty Determination for India, 79 FR 53688 (September 10, 2014) (OCTG CVD Order); and Large Diameter Welded Pipe from the Republic of Turkey: Countervailing Duty Order, 84 FR 18771 (May 2, 2019) (LDWP CVD Order) (collectively, the Orders).

The merchandise covered by these Orders is standard pipe, WLP, OCTG, and LDWP from Türkiye. For a complete description of the scope of each of these orders, see the Preliminary Results.⁵

⁵ See Preliminary Results, 89 FR 73363-73364.

Analysis of Comments Received

We addressed the comments received in these CCRs in the Issues and Decision Memorandum. A list of the issues addressed in the Issues and Decision Memorandum is included in the Appendix. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade/gov/public/FRNoticesListLayout.aspx.

Changes Since the Preliminary Results

Based on our analysis of the comments received, we revised the effective date of these CCRs. For further discussion, see the Issues and Decision Memorandum.

Final Results of Changed Circumstances Reviews

For the reasons stated in the Preliminary Results, we continue to find that Borusan Boru is the successor-in-interest to BMB. As a result, we determine that Borusan Boru is entitled to receive the cash deposit rate previously assigned to Borusan Mannesmann for merchandise subject to the Standard Pipe CVD Order, Welded Line Pipe CVD Order, and OCTG CVD Order. Consequently, will Commerce instruct U.S. Customs and Border Protection (CBP) to collect cash deposits and suspend liquidation of all shipments of merchandise subject to the Standard Pipe CVD Order, Welded Line Pipe CVD Order, and OCTG CVD Order produced and/or exported by Borusan Boru and entered, or withdrawn from warehouse, for consumption on or after November 13, 2023, at the rate assigned to BMB.⁶ Further, Commerce will instruct CBP that Borusan Boru is entitled to its predecessor's exclusion from the LDWP CVD Order for entries of subject merchandise produced and exported by Borusan Boru. Lastly, these cash deposit requirements shall remain in effect until further notice.

⁶ The current rate for BMB under the Standard Pipe CVD Order is 0.83 percent. See Circular Welded Carbon Steel Pipes and Tubes from the Republic of Turkey: Final Results and Rescission, in Part, of Countervailing Duty Administrative Review; Calendar Year 2019, 86 FR 67681, 67682 (November 29, 2021). The current rate for BMB under the Welded Line Pipe CVD Order 0.78 percent. See Welded Line Pipe from the Republic of Turkey: Final Results of Countervailing Duty Administrative Review; 2015, 83 FR 34113, 34114 (July 19, 2018). The current rate for BMB under the OCTG CVD Order is 0.38 percent (de minimis). See Oil Country Tubular Goods from the Republic of Turkey: Final Results and Partial Rescission of Countervailing Duty Administrative Review; 2018, 86 FR 24842 (May 10, 2021).

Notification to Interested Parties

We are issuing this determination and publishing these final results and notice in accordance with sections 751(b)(1) and 777(i)(1) and (2) of the Act and 19 CFR 351.216(e), 351.221(b), and 351.221(c)(3).

Dated: November 26, 2024.
Abdelali Elouaradia,
Deputy Assistant Secretary for Enforcement and Compliance.

Appendix

List of Topics Discussed in the Issues and Decision Memorandum

I. Summary

II. Background

III. Discussion of the Issue

Comment: Whether Commerce Should Make the Effective Date of the CCRs Retroactive to the Date of Publication of the Orders

IV. Recommendation

[FR Doc. 2024-28395 Filed 12-3-24; 8:45 am]

BILLING CODE 3510-DS-P